DEPARTMENT OF COMMERCE

International Trade Administration

[C-351-829]

Hot-rolled Flat-Rolled Carbon-Quality Steel Products from Brazil; Extension of Time Limit for the Final Results of Sunset Review of Countervailing Duty Order

AGENCY: Import Administration, International Trade Administration, Department of Commerce.

ACTION: Notice of Extension of Time Limit for the Final Results of Sunset Review of Countervailing Duty Order: Hot-Rolled Flat-Rolled Carbon-Quality Steel Products from Brazil.

SUMMARY: The Department of Commerce (“the Department”) is extending the time limit for its final results in the sunset review of the countervailing duty order on hot-rolled flat-rolled carbon-quality steel products (“hot-rolled steel”) from Brazil. The Department intends to issue the final results of this sunset reviews on or about November 22, 2004.

EFFECTIVE DATE: October 25, 2004.

FOR FURTHER INFORMATION CONTACT: Hilary Sadler, Esq., Import Administration, International Trade Administration, U.S. Department of Commerce, 14th Street & Constitution Avenue, NW, Washington, DC 20230; telephone: (202) 482-4340.

Extension of Final Results of Review:

On May 3, 2004, the Department initiated a sunset review of the countervailing duty order on hot-rolled steel from Brazil. See Initiation of Five-Year (Sunset) Reviews, 69 FR 24118 (May 3, 2004). The Department, in this proceeding, determined that it would conduct an expedited sunset review of this order based on inadequate responses to the notice of initiation from respondent interested parties. The Department's final results of this review were originally scheduled for August 31, 2004 and were extended on August 31, 2004 to October 15, 2004. See Certain Hot-Rolled Flat-Rolled Carbon-Quality Steel Products from Brazil; Extension of Final Results of Expedited Sunset Review of the Suspended Countervailing Duty Investigation, 69 FR 54647 (September 9, 2004). The Department, however, needs additional time to consider issues related to the appropriate countervailing duty rate likely to prevail if the order is revoked which the Department will provide to the International Trade Commission. Thus, the Department intends to issue the final results on or about November 22, 2004, in accordance with sections 751(c)(5)(B) and 751(c)(5)(C)(ii) of the Tariff Act of 1930, as amended.

Dated: October 15, 2004.
Jeffrey A. May,
Acting Assistant Secretary for Import Administration.

[FR Doc. E4-2839 Filed 10-22-04; 8:45 am]

BILLING CODE 3510-DS-S